DEPARTMENT OF THE INTERIOR

Bureau of Land Management

[LLWYP00000-L13200000-EL0000]

Powder River Regional Coal Team Activities; Notice of Public Meeting in Casper, WY

AGENCY: Bureau of Land Management, Interior.

ACTION: Notice of Public Meeting.

SUMMARY: The Powder River Regional Coal Team (RCT) has scheduled a public meeting for October 26, 2011, to review coal management activities in the Powder River Coal Production Region.

DATES: The RCT meeting will begin at 9 a.m. MDT on October 26, 2011. The meeting is open to the public.

ADDRESSES: The meeting will be held at the Wyoming Oil and Gas Conservation Commission Hearing Room, 2211 King Boulevard, Casper, Wyoming.

FOR FURTHER INFORMATION CONTACT: Brenda Vosika Neuman, Solid Minerals Branch Chief, BLM Wyoming State Office, Division of Minerals and Lands, 5353 Yellowstone Road, Cheyenne, Wyoming 82009: telephone 307-775-6179 or Phil Perlewitz, Solid Minerals Branch Chief, BLM Montana State Office, Division of Resources, 5001 Southgate Drive, Billings, Montana 59101: telephone 406-896-5159.

SUPPLEMENTARY INFORMATION: The purpose of the meeting is to discuss progress in processing pending coal lease by applications (LBAs) in the Powder River Coal Production Region as well as other Federal coal-related actions in the region. Specific coal-related topics planned for the RCT meeting include:

1. Update on progress in processing existing coal LBAs in the Powder River Coal Production Region.

2. Update on U.S. Geological Survey coal inventory work.

3. Update on BLM land use planning efforts in the Powder River Coal Production Region of Wyoming and Montana.

4. Consider and vote on the following new and potential LBA filings in the Powder River Coal Production Region:

(1) The Belle Ayr West LBA located west of the Belle Ayr Mine; and

(2) The Antelope Ridge LBA located west and north of the North Antelope Rochelle Mine.

5. Presentation on potential exchange of Preference Right Lease Applications in New Mexico held by Ark Land Company, for competitive bidding rights in Wyoming, pursuant to 43 CFR part 3435.

The RCT will also consider any coal LBAs and/or other coal-related issues that may arise prior to the meeting. The acreages, as well as estimates of coal resources, will be presented at the meeting on each individual LBA.

During the public meeting, the RCT may generate recommendation(s) for any or all of these topics and other topics that may arise prior to the meeting date. The meeting will serve as a forum for public discussion on Federal coal management issues of concern in the Powder River Coal Production Region. Any party interested in providing comments or data related to existing pending applications, or any party proposing other issues to be considered by the RCT, may either do so in writing to the State Director (922), BLM Wyoming State Office, 5353 Yellowstone Road, Cheyenne, WY 82009, no later than October 12, 2011, or by addressing the RCT with his/her concerns at the meeting on October 26, 2011.

Following is the draft agenda for the meeting:

1. Introductions.

2. Approval of the minutes from the last RCT meeting.

3. Speaker on coal resources.

4. Coal activity since the last RCT meeting.

5. LBA presentations.

6. Potential coal bidding rights exchange.

7. BLM land use planning update.

8. Call for other coal related discussion items.

9. Discussion of next meeting.

10. Adjourn.

Donald A. Simpson,
State Director.

[FR Doc. 2011-24071 Filed 9-20-11; 8:45 am]

BILLING CODE 4310-22-P